DEPARTMENT OF ENERGY

Federal Energy Regulatory Commission

Combined Notice of Filings

Take notice that the Commission has received the following Natural Gas Pipeline Rate and Refund Report filings:

Filings Instituting Proceedings

Docket Numbers: RP22-985-000.

Applicants: Columbia Gulf Transmission, LLC.

Description: § 4(d) Rate Filing: Prepayments to be effective 8/1/2022.

Filed Date: 6/16/22.

Accession Number: 20220616-5094.

Comment Date: 5 p.m. ET 6/28/22.

Docket Numbers: RP22-986-000.

Applicants: Red Willow Offshore, LLC, Ridgewood Institutional IV Prospective Leases, LLC.

Description: Joint Petition for Limited Waiver of Capacity Release Regulations, et al. of Red Willow Offshore, LLC, et al.

Filed Date: 6/17/22.

Accession Number: 20220617-5067.

Comment Date: 5 p.m. ET 6/29/22.

Filings in Existing Proceedings

Docket Numbers: RP22-406-001.

Applicants: ANR Pipeline Company.

Description: Compliance filing: ANR Creditworthiness Compliance to be effective 6/10/2022.

Filed Date: 6/17/22.

Accession Number: 20220617-5071.

Comment Date: 5 p.m. ET 6/29/22.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

⁷ The number used to calculate the costs is 2.4444 and was rounded for the table.

⁸ The number used to calculate the costs is 4.1026 and was rounded for the table.

⁹ Data Collection for Analytics & Surveillance & Mkt.-Based Rate Purposes, 86 FR 17823 (Apr. 6, 2021), 174 FERC ¶ 61,214 (2021) (March Notice).

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 17, 2022.
Kimberly D. Bose,
Secretary.

[FR Doc. 2022-13515 Filed 6-23-22; 8:45 am]

BILLING CODE 6717-01-P